DEPARTMENT OF COMMERCE

Foreign-Trade Zones Board

[S-4-2016]

Approval of Subzone Status, FTZ Networks, Inc., Olive Branch, MS

On January 19, 2016, the Executive Secretary of the Foreign-Trade Zones (FTZ) Board docketed an application submitted by Tunica County, Mississippi, grantee of FTZ 287, requesting subzone status subject to the existing activation limit of FTZ 287 on behalf of FTZ Networks, Inc., in Olive Branch, Mississippi.

The application was processed in accordance with the FTZ Act and Regulations, including notice in the Federal Register inviting public comment (81 FR 4249-4250, January 26, 2016). The FTZ staff examiner reviewed the application and determined that it meets the criteria for approval.

Pursuant to the authority delegated to the FTZ Board's Executive Secretary (15 CFR 400.36(f)), the application to establish Subzone 287A is approved, subject to the FTZ Act and the Board's regulations, including Section 400.13, and further subject to FTZ 287's 2,000-acre activation limit.

Dated: March 25, 2016.
Andrew McGilvray,
Executive Secretary.

[FR Doc. 2016-07317 Filed 3-30-16; 8:45 am]

BILLING CODE 3510-DS-P